ENVIRONMENTAL PROTECTION AGENCY

40 CFR Part 52

[EPA-R03-OAR-2013-0058; FRL-9901-19-Region3]

Approval and Promulgation of Air Quality Implementation Plans; Pennsylvania; Withdrawal of Proposed Rule for the Update of the Motor Vehicle Emissions Budgets for the Lancaster 1997 8-Hour Ozone Maintenance Area

AGENCY: Environmental Protection Agency (EPA).

ACTION: Withdrawal of proposed rule.

SUMMARY: EPA is withdrawing the proposed rule proposing approval of revisions to the Commonwealth of Pennsylvania's State Implementation Plan (SIP). The revisions consist of an update to the SIP-approved Motor Vehicle Emissions Budgets (MVEBs) for nitrogen oxides (NOX) and volatile organic compounds (VOCs), and an updated point source inventory for NOX and VOCs for the 1997 8-Hour Ozone National Ambient Air Quality Standard SIP for Lancaster County. In the associated direct final rule published on August 8, 2013, the table with the revised MVEBs contained numerical errors. Therefore, EPA is withdrawing this proposed rule also published on August 8, 2013. The proposed rule is hereby withdrawn in its entirety. EPA will commence a separate rulemaking action for this SIP revision.

DATES: The proposed rule published at 78 FR 48373 on August 8, 2013, is withdrawn as of September 26, 2013.

FOR FURTHER INFORMATION CONTACT: Asrah Khadr, (215) 814-2071, or by email at khadr.asrah@epa.gov.

SUPPLEMENTARY INFORMATION: EPA is withdrawing the proposed rule proposing approval of revisions to the Commonwealth of Pennsylvania's State Implementation Plan (SIP).

List of Subjects in 40 CFR Part 52

Environmental protection, Air pollution control, Incorporation by reference, Nitrogen dioxide, Ozone, Volatile organic compounds.

Dated: August 29, 2013.
W.C. Early,
Acting Regional Administrator, Region III.

[FR Doc. 2013-23382 Filed 9-25-13; 8:45 am]

BILLING CODE 6560-50-P